DEPARTMENT OF TRANSPORTATION

Federal Aviation Administration

RTCA Special Committee 196; Night Vision Goggle (NVG) Appliances & Equipment

Pursuant to section 10(a)(2) of the Federal Advisory Committee Act (Pub. L. 92-463, 5 U.S.C., Appendix 2), notice is hereby given for Special Committee (SC)-196 meeting to be held March 28-29, 2000, starting at 8 a.m. The meeting will be held at FAA Rotorcraft Directorate, (4th Floor, Don Watson Room), FAA Southwest Region Headquarters, 2601 Meacham Blvd, Ft. Worth, TX. 76139.

The agenda will include: (1) Welcome and Introductory Remarks; (2) Agenda Overview; (3) Review/Approval of Previous Minutes; (4) Action Item Status Review; (5) Bell Helicopters Training Program; (6) WAMCO NVG External Lighting Brief; (7) FAA Medical Certification Brief; (8) BAE NVG Heads-Up Display Systems; (9) Overview SC-196 Working Group (WG) Activities: (a) WG-1, Operational Concept/Requirements; (b) WG-2, NVG MOPS; (c) WG-3, Night Vision Imaging System Lighting; (d) WG-4, Maintenance/Serviceability; (e) WG-5, Training Guidelines/Considerations; (10) Open Forum; (11) WG Breakout Sessions; (12) Other Business; (13) Establish Agenda for Next Meeting; (14) Date and Location of Next Meeting; (15) Closing.

Attendance is open to the interested public but limied to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on March 2, 2000.
Janice L. Peters,
Designated Official.

[FR Doc. 00-5957 Filed 3-9-00; 8:45 am]

BILLING CODE 4910-13-M